DEPARTMENT OF COMMERCE

Bureau of Industry and Security

15 CFR Part 774

The Commerce Control List

CFR Correction

In Title 15 of the Code of Federal Regulations, Parts 300 to 799, revised as of January 1, 2006, on page 772, Supplement I to Part 774 is corrected by reinstating Export Control Classification Number 7A101 to Category 7 to read as follows:

PART 774—THE COMMERCE CONTROL LIST

* * * * *

Category 7—Navigation and Avionics

* * * * *

7A101 Accelerometers, other than those controlled by 7A001, with a threshold of 0.05 g or less, or a linearity error within 0.25% of full scale output, or both, which are designed for use in inertial navigation systems or in guidance systems of all types and specially designed components therefor.

License Requirements

Reason for Control: MT, AT

Control(s) | Country Chart
MT applies to entire entry | MT Column 1
AT applies to entire entry | AT Column 1

License Exceptions

LVS: N/A

GBS: N/A

CIV: N/A

List of Items Controlled

Unit: $ value

Related Controls: This entry does not control accelerometers which are specially designed and developed as MWD (Measurement While Drilling) sensors for use in downhole well service operations.

Related Definitions: N/A

Items: The list of items is included in the entry heading.

[FR Doc. 06-55524 Filed 7-28-06; 8:45 am]

BILLING CODE 1505-01-D